DEPARTMENT OF ENERGY

Federal Energy Regulatory Commission

[Project No. 2614-042]

City of Hamilton, Ohio, American Municipal Power, Inc.; Notice Soliciting Scoping Comments

Take notice that the following hydroelectric application has been filed with the Commission and is available for public inspection.

a. Type of Application: New Major License.

b. Project No.: P-2614-042.

c. Date filed: February 21, 2024.

d. Applicants: City of Hamilton, Ohio (City of Hamilton) and American Municipal Power, Inc. (American Municipal).

e. Name of Project: Greenup Hydroelectric Project (Greenup Project).

f. Location: The Greenup Project is located at the U.S. Army Corps of Engineers' (Corps) Greenup Locks and Dam on the Ohio River near the Town of Franklin Furnace in Scioto County, Ohio and Greenup County, Kentucky. The project occupies 12.74 acres of federal land administered by the Corps.

g. Filed Pursuant to: Federal Power Act 16 U.S.C. 791(a)-825(r).

h. Applicant Contact: Jeff Martin, City of Hamilton, Ohio, 9505 West Mary Ingles Highway (KY Route 8), Foster, KY 41043; (606) 747-6103; greenuplicensing@hamilton-oh.gov and John McGreevy, American Municipal Power, Inc., 1111 Schrock Road, Columbus, OH 43229; (614) 540-1111; greenuplicensing@hamilton-oh.gov.

i. FERC Contact: Twyla Cheatwood, Project Coordinator, Midwest Branch, Division of Hydropower Licensing; telephone at (202) 502-8066; email at Twyla.cheatwood@ferc.gov.

j. Deadline for filing scoping comments: July 21, 2025 by 5 p.m. Eastern Time.

The Commission strongly encourages electronic filing. Please file motions to intervene and protests and requests for cooperating status using the Commission's eFiling system at https://ferconline.ferc.gov/FERCOnline.aspx. For assistance, please contact FERC Online Support at FERCOnlineSupport@ferc.gov, (866) 208-3676 (toll free), or (202) 502-8659 (TTY). In lieu of electronic filing, you may submit a paper copy. Submissions sent via the U.S. Postal Service must be addressed to: Debbie-Anne A. Reese, Secretary, Federal Energy Regulatory Commission, 888 First Street NE, Room 1A, Washington, DC 20426. Submissions sent via any other carrier must be addressed to: Debbie-Anne A. Reese, Secretary, Federal Energy Regulatory Commission, 12225 Wilkins Avenue, Rockville, Maryland 20852. All filings must clearly identify the project name and docket number on the first page: Greenup Hydroelectric Project (P-2614-042).

The Commission's Rules of Practice require all intervenors filing documents with the Commission to serve a copy of that document on each person on the official service list for the project. Further, if an intervenor files comments or documents with the Commission relating to the merits of an issue that may affect the responsibilities of a particular resource agency, they must also serve a copy of the document on that resource agency.

k. This application is not ready for environmental analysis at this time.

l. Project Description: The Greenup Project is located at the Corps' existing Greenup Locks and Dam and consist of the following existing facilities: (1) a 125-foot-long, 145-foot-wide reinforced concrete intake channel with sloped bottom and vertical left and right bank concrete walls; (2) three 39-foot-wide intakes equipped with trashracks having a clear bar spacing of 5.9 inches; (3) a 145-foot-wide and 190-foot-long powerhouse consisting of a steel-plate enclosure with concrete filled bulkhead walls located on the east (right) end of the dam, with a combined capacity of 70.27 megawatts; (4) a 125-foot-long and 145-foot-wide reinforced concrete tailrace channel with sloped bottom and vertical left and right bank concrete walls; (5) a 10-foot-wide gravity dam between the left wall of the intake channel and gated spillway which acts as an uncontrolled spillway during open river (flood) conditions; and (6) a steel sheet pile wall that stabilizes the right (east) bank.

The Greenup Project currently operates in a run-of-release mode with releases made in accordance with the Operating Agreement between the licensees and the Corps. The project has an estimated average annual energy production of 263,596 megawatt-hours. City of Hamilton and American Power do not propose any new construction and propose to continue operating the project in a run-of-release mode.

m. The application can be viewed on the Commission's website at https://www.ferc.gov using the “eLibrary” link. Enter the project's docket number, excluding the last three digits in the docket number field to access the document (P-8315). For assistance, contact FERC Online Support at FERCOnlineSupport@ferc.gov, or call (866) 208-3676 (toll-free) or (202) 502 8659 (TTY).

You may also register online at http://www.ferc.gov/docs-filing/esubscription.asp to be notified via email of new filings and issuances related to this or other pending projects. For assistance, contact FERC Online Support.

n. The Commission's Office of Public Participation (OPP) supports meaningful public engagement and participation in Commission proceedings. OPP can help members of the public, including landowners, community organizations, Tribal members and others, access publicly available information and navigate Commission processes. For public inquiries and assistance with making filings such as interventions, comments, or requests for rehearing, the public is encouraged to contact OPP at (202) 502-6595, or OPP@ferc.gov.

o. Scoping Process: Pursuant to the National Environmental Policy Act (NEPA), Commission staff intends to prepare either an environmental assessment (EA) or an environmental impact statement (EIS) (collectively referred to as the “NEPA document”) that describes and evaluates the probable effects, including an assessment of the site-specific and cumulative effects, if any, of the proposed action and alternatives. The Commission's scoping process will help determine the required level of analysis and satisfy the NEPA scoping requirements, irrespective of whether the Commission issues an EA or an EIS. At this time, we do not anticipate holding an on-site scoping meeting. Instead, we are soliciting written comments and suggestions on the preliminary list of issues and alternatives to be addressed in the NEPA document, as described in scoping document 1 (SD1), issued June 20, 2025.

Copies of the SD1 outlining the subject areas to be addressed in the NEPA document were distributed to the parties on the Commission's mailing list and the applicant's distribution list. Copies of SD1 may be viewed on the web at http://www.ferc.gov using the “eLibrary” link. Enter the docket number excluding the last three digits in the docket number field to access the document. For assistance, call 1-866-208-3676 or for TTY, (202) 502-8659.

Dated: June 20, 2025.
Debbie-Anne A. Reese,
Secretary.

[FR Doc. 2025-11678 Filed 6-24-25; 8:45 am]

BILLING CODE 6717-01-P